DEPARTMENT OF HEALTH AND HUMAN SERVICES

Centers for Disease Control and Prevention

National Center for Environmental Health/Agency for Toxic Substance and Disease Registry; The Health Department Subcommittee of the Board of Scientific Counselors, CDC, National Center for Environmental Health (NCEH)/Agency for Toxic Substances and Disease Registry (ATSDR): Teleconference Meeting

Notice of Cancellation: This notice was published in the Federal Register on May 4, 2007, Volume 72, Number 86, page 25318. The meeting previously scheduled to convene on June 4, 2007 has been cancelled.

Contact Person for More Information: Shirley D. Little, Committee Management Specialist, NCEH/ATSDR, 1600 Clifton Road, Mail Stop E-28, Atlanta, GA 30303; telephone 404/498-0615, fax 404/498-0059; E-mail: slittle@cdc.gov.

The Director, Management Analysis and Services Office, has been delegated the authority to sign Federal Register notices pertaining to announcements of meetings and other committee management activities, for both CDC and the Agency for Toxic Substances and Disease Registry.

Dated: May 30, 2007.
Elaine L. Baker,
Acting Director, Management Analysis and Services Office, Centers for Disease Control and Prevention.

[FR Doc. E7-10880 Filed 6-5-07; 8:45 am]

BILLING CODE 4163-18-P